DEPARTMENT OF COMMERCE.

International Trade Administration

[A-122-840]

Carbon and Certain Alloy Steel Wire Rod From Canada: Extension of Time Limit for Preliminary Results of Antidumping Duty Administrative Review

AGENCY: Import Administration, International Trade Administration, Department of Commerce.

EFFECTIVE DATE: May 22, 2007.

FOR FURTHER INFORMATION CONTACT: Shane Subler, AD/CVD Operations, Office 1, Import Administration, International Trade Administration, U.S. Department of Commerce, 14th Street and Constitution Avenue, NW, Washington, DC 20230; telephone: (202) 482-0189.

SUPPLEMENTARY INFORMATION:

Background

On November 27, 2006, the Department of Commerce (the Department) published its notice of initiation of an antidumping duty administrative review on carbon and certain alloy steel wire rod from Canada. See Initiation of Antidumping and Countervailing Duty Administrative Reviews and Request for Revocation in Part, 71 FR 68535 (November 27, 2006). The preliminary results of this administrative review are currently due on July 3, 2007.

Extension of Time Limit for Preliminary Results

Pursuant to section 751(a)(3)(A) of the Tariff Act of 1930, as amended (the Act), the Department shall issue preliminary results in an administrative review of an antidumping duty order within 245 days after the last day of the anniversary month of the date of publication of the order for which a review is requested and the final results within 120 days after the date on which the preliminary results are published. However, if it is not practicable to complete the review within the specified time periods, section 751(a)(3)(A) of the Act allows the Department to extend these deadlines to a maximum of 365 days and 180 days, respectively.

Completion of the preliminary results within the originally anticipated time limit, July 3, 2007, is impracticable because the Department must analyze complex issues regarding Ivaco Rolling Mills 2004 L.P.'s and Sivaco Ontario's corporate structures, their affiliations and corporate relationships, levels of trade, and cost of production. Because it is not practicable to complete the review within the time specified under the Act, in accordance with section 751(a)(3)(A) of the Act, the Department is extending the time limit for completion of the preliminary results by 120 days to October 31, 2007. The deadline for the final results of this administrative review continues to be 120 days after the publication of the preliminary results.

We are issuing and publishing this notice in accordance with sections 751(a)(1) and 777(i)(1) of the Act.

Dated: May 16, 2007.
Stephen J. Claeys,
Deputy Assistant Secretary for Import Administration.

[FR Doc. E7-9820 Filed 5-21-07; 8:45 am]

BILLING CODE 3510-DS-S